DEPARTMENT OF ENERGY

Federal Energy Regulatory Commission

Combined Notice of Filings #1

Take notice that the Commission received the following electric rate filings:

Docket Numbers: ER11-1858-002, ER11-1859-001.

Applicants: NorthWestern Corporation.

Description: NorthWestern Energy and Montana Generation, LLC submits the Triennial Market Power Update Analysis for Markets in the Northwest Region pursuant to Order No. 697.

Filed Date: 10/18/13.

Accession Number: 20131022-0006.

Comments Due: 5 p.m. ET 12/17/13.

Docket Numbers: ER11-4436-002; ER10-2473-003; ER10-2502-003; ER10-2472-003; ER11-2724-003.

Applicants: Black Hills Power, Inc., Cheyenne Light Fuel & Power Company, Black Hills/Colorado Electric Utility Co, LP, Black Hills Colorado IPP, LLC, Black Hills Wyoming, LLC.

Description: Amendment to June 28, 2013 Updated Market Power Analysis of the Black Hills Corporation Public Utilities for the Northwest Region.

Filed Date: 10/23/13.

Accession Number: 20131023-5055.

Comments Due: 5 p.m. ET 11/13/13.

Docket Numbers: ER13-1556-001.

Applicants: Entergy Services, Inc.

Description: Entergy Services, Inc., Amended Service Agreements to be effective 12/19/2013.

Filed Date: 10/22/13.

Accession Number: 20131022-5117.

Comments Due: 5 p.m. ET 11/12/13.

Docket Numbers: ER14-156-000.

Applicants: Southern California Edison Company.

Description: Amended SGIAs and Distrib Serv Agmts EDPR Agincourt LLC and EDPR Marathon LLC to be effective 10/23/2013.

Filed Date: 10/22/13.

Accession Number: 20131022-5089.

Comments Due: 5 p.m. ET 11/12/13.

Docket Numbers: ER14-158-000.

Applicants: Merchant's Plaza Energy, LLC.

Description: Cancellation of MBR Tariff to be effective 10/22/2013.

Filed Date: 10/22/13.

Accession Number: 20131022-5102.

Comments Due: 5 p.m. ET 11/12/13.

Docket Numbers: ER14-159-000.

Applicants: Freedom Logistics, LLC.

Description: Notice of Cancellation of MBR Tariff to be effective 10/22/2013.

Filed Date: 10/22/13.

Accession Number: 20131022-5106.

Comments Due: 5 p.m. ET 11/12/13.

Docket Numbers: ER14-160-000.

Applicants: Entergy Gulf States Louisiana, L.L.C., Entergy Texas, Inc., Entergy Louisiana, LLC.

Description: A&R Toledo Bend PSA 10-22-2013 to be effective 12/19/2013.

Filed Date: 10/22/13.

Accession Number: 20131022-5111.

Comments Due: 5 p.m. ET 11/12/13.

Docket Numbers: ER14-161-000.

Applicants: American Electric Power Service Corporation, AEP Indiana Michigan Transmission Company, Indiana Michigan Power Company, Wabash Valley Power Association, Inc., PJM Interconnection, L.L.C.

Description: AEP submits 10th Revised ILDSA among AEPSC & Wabash Valley Power-PJM SA No. 1262 to be effective 9/17/2010.

Filed Date: 10/22/13.

Accession Number: 20131022-5115.

Comments Due: 5 p.m. ET 11/12/13.

Docket Numbers: ER14-162-000.

Applicants: Westwood Generation, LLC.

Description: Compliance Update to be effective 10/23/2013.

Filed Date: 10/23/13.

Accession Number: 20131023-5015.

Comments Due: 5 p.m. ET 11/13/13.

Docket Numbers: ER14-163-000.

Applicants: Southwest Power Pool, Inc.

Description: 1839R2 City of Osage NITSA NOA Ministerial Filing to be effective 8/1/2013.

Filed Date: 10/23/13.

Accession Number: 20131023-5038.

Comments Due: 5 p.m. ET 11/13/13.

Docket Numbers: ER14-164-000.

Applicants: Southern California Edison Company.

Description: Southern California Edison Company submits tariff filing per 35.13(a)(2)(iii: Amended LGIA with Mojave Solar, LLC to be effective 10/24/2013.

Filed Date: 10/23/13.

Accession Number: 20131023-5058.

Comments Due: 5 p.m. ET 11/13/13.

Docket Numbers: ER14-165-000.

Applicants: Southern California Edison Company.

Description: Southern California Edison Company submits tariff filing per 35.13(a)(2)(iii: Revised Added Facilities Rate for Sycamore, Kern River, and KM Acquisitions to be effective 5/15/2013.

Filed Date: 10/23/13.

Accession Number: 20131023-5060.

Comments Due: 5 p.m. ET 11/13/13.

Docket Numbers: ER14-166-000.

Applicants: Rigby Energy Resources, LP.

Description: Rigby Energy Resources, LP submits tariff filing per 35.12: Initial Filing to be effective 12/23/2013.

Filed Date: 10/23/13.

Accession Number: 20131023-5073.

Comments Due: 5 p.m. ET 11/13/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 23, 2013.
Nathaniel J. Davis, Sr.,
Deputy Secretary.

[FR Doc. 2013-26091 Filed 10-31-13; 8:45 am]

BILLING CODE 6717-01-P